DEPARTMENT OF THE INTERIOR

Office of the Secretary

Renewal of Information Collection; OMB Control Number 1040-0001, DOI Programmatic Clearance for Customer Satisfaction Surveys

AGENCY: Department of the Interior.

ACTION: Notice; request for comments.

SUMMARY: We (Department of the Interior, DOI) plan to ask the Office of Management and Budget (OMB) to approve the information collection (IC) described below. This IC is scheduled to expire March 31, 2008. As required by the Paperwork Reduction Act of 1995 and as part of our continuing efforts to reduce paperwork and respondent burden, we invite the general public and other Federal agencies to take this opportunity to comment on this IC.

DATES: You must submit comments on or before March 17, 2008.

ADDRESSES: Mail or hand carry comments to the Department of the Interior; Office of Policy Analysis; Attention: Don Bieniewicz; Mail Stop 3530; 1849 C Street, NW., Washington, DC 20240. If you wish to e-mail comments, the e-mail address is Donald_Bieniewicz@ios.doi.gov. Reference “DOI Programmatic Clearance for Customer Satisfaction Surveys” in your e-mail subject line. Include your name and return address in your e-mail message and mark your message for return receipt.

FOR FURTHER INFORMATION CONTACT: To request additional information about this IC, contact Donald Bieniewicz on 202-208-5978.

SUPPLEMENTARY INFORMATION:

I. Abstract

The Government Performance and Results Act of 1993 (GPRA) (Pub. L. 103-62) requires agencies to “improve Federal program effectiveness and public accountability by promoting a new focus on results, service quality, and customer satisfaction.” To fulfill this responsibility, DOI bureaus and offices must collect data from their respective user groups to better understand the needs and desires of the public and to respond accordingly. In addition, customer information helps us meet requirements of the Administration's Program Assessment Rating Tool (PART), the President's Management Agenda (PMA), and Interior's Citizen-Centered Customer Service Policy.

We use customer satisfaction surveys to help us fulfill our responsibilities to provide excellence in government by proactively consulting with those we serve. This programmatic clearance provides an expedited approval process for DOI bureaus and offices to conduct customer research through external surveys such as questionnaires and comment cards. We will use this information to support all aspects of planning to include buildings, roads, interpretive exhibits, and technical systems. We anticipate that the information obtained could lead to reallocation of resources, revisions in certain agency processes and policies, development of guidance related to customer services, and improvement in the way we serve the American public. Ultimately, these changes should result in improvement in services that we provide to the public and, in turn, the public perception of DOI.

The proposed renewal covers all of the organizational units and bureaus in DOI. Bureaus and offices will voluntarily obtain information from their customers and stakeholders. No one survey will cover all the topic areas; rather, these topic areas serve as a guide within which the agencies will develop questions. Questions may be asked in languages other than English (e.g., Spanish) where appropriate. Topic areas include:

(1) Communication/information/education. Questions will focus on customer satisfaction with aspects of communication/information/products/education offered. Respondents may be asked for feedback regarding the following attributes of the services provided:

(a) Timeliness.

(b) Consistency.

(c) Ease of Use and Usefulness.

(d) Ease of Information Access.

(e) Helpfulness and Effectiveness.

(f) Quality.

(g) Value for fee paid for information/product/service.

(h) Level of engagement in communications process (i.e., whether respondent feels he/she was asked for input and whether or not that input was considered).

(2) Disability accessibility. This area will focus on customer satisfaction data related to disability access to DOI buildings, facilities, trails, etc.

(3) Management practices. This area covers questions relating to how well customers are satisfied with DOI management practices and processes, what improvements they might make to specific processes, and whether or not they feel specific issues were addressed and reconciled in a timely, courteous, and responsive manner.

(4) Resource management. We will ask customers and partners to provide satisfaction data related to DOI's ability to protect, conserve, provide access to, and preserve natural resources that we manage.

(5) Rules, regulations, policies. This area focuses on obtaining feedback from customers regarding fairness, adequacy, and consistency in enforcing rules, regulations, and policies for which DOI is responsible. It will also help us understand public awareness of rules and regulations and whether or not they are explained in a clear and understandable manner.

(6) Service delivery. We will seek feedback from customers regarding the manner in which DOI delivers services. Attributes will range from the courtesy of staff to timeliness of service delivery and staff knowledge of the services being delivered.

(7) Technical assistance. Questions developed within this topic area will focus on obtaining customer feedback regarding attributes of technical assistance, including timeliness, quality, usefulness, and the skill level of staff providing this assistance.

(8) Program-specific. Questions for this area will reflect the specific details of a program that pertain to its customer respondents. The questions will address very specific and/or technical issues related to the program. The questions will be geared toward gaining a better understanding about how to provide specific products and services and the public's attitude toward their usefulness.

(9) General demographics. Some general demographics may be used to augment satisfaction questions so that we can better understand the customer and improve how we serve that customer. We may ask customers how many times they have used a service, visited a facility within a specific timeframe, their ethnic group, or their race.

II. Data

OMB Control Number: 1040-0001.

Title: DOI Programmatic Clearance for Customer Satisfaction Surveys.

Form Number(s): None.

Type of Request: Extension of an approved collection.

Affected Public: DOI customers. We define customers as anyone who uses DOI resources, products, or services. This includes internal customers (anyone within DOI) as well as external customers (e.g., the American public, representatives of the private sector, academia, other government agencies). Depending upon their role in specific situations and interactions, citizens and DOI stakeholders and partners may also be considered customers. We define stakeholders to mean groups or individuals who have an expressed interest in and who seek to influence the present and future state of DOI's resources, products, and services. Partners are those groups, individuals, and agencies who are formally engaged in helping DOI accomplish its mission.

Respondent's Obligation: Voluntary.

Frequency of Collection: On occasion.

Estimated Annual Number of Respondents: 120,000. We estimate approximately 60,000 respondents will submit DOI customer satisfaction surveys and 60,000 will submit comment cards.

Estimated Total Annual Responses: 120,000.

Estimated Time per Response: 15 minutes for a customer survey; 3 minutes for a comment card.

Estimated Total Annual Burden Hours: 18,000.

III. Request for Comments

We invite comments concerning this IC on:

(1) Whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: January 11, 2008.
Benjamin Simon,
Acting Assistant Director, Office of Policy Analysis, U.S. Department of the Interior.

[FR Doc. E8-691 Filed 1-15-08; 8:45 am]

BILLING CODE 4310-RK-P